DEPARTMENT OF ENERGY

Federal Energy Regulatory Commission

Notice of Effectiveness of Exempt Wholesale Generator and Foreign Utility Company Status

Coso Battery Storage, LLC | EG21-88-000
Chisholm Grid, LLC | EG21-89-000
Cool Springs Solar, LLC | EG21-90-000
Dodge Flat Solar, LLC | EG21-91-000
Prairie State Solar, LLC | EG21-92-000
Dressor Plains Solar, LLC | EG21-93-000
Elora Solar, LLC | EG21-94-000
Fish Springs Ranch Solar, LLC | EG21-95-000
Quitman II Solar, LLC | EG21-96-000
Iris Solar, LLC | EG21-97-000
St. James Solar, LLC | EG21-98-000
Conrad (Benfleet) Limited | FC21-2-000

Take notice that during the month of April 2021, the status of the above-captioned entities as Exempt Wholesale Generators or Foreign Utility Companies became effective by operation of the Commission's regulations. 18 CFR 366.7(a) (2020).

Dated: May 19, 2021.
Debbie-Anne A. Reese,
Deputy Secretary.

[FR Doc. 2021-11020 Filed 5-24-21; 8:45 am]

BILLING CODE 6717-01-P